DEPARTMENT OF THE INTERIOR

Bureau of Land Management

[61510-8451-0000; MTM 80092]

Notice of Proposed Withdrawal Extension and Notification of a Public Meeting; Montana

AGENCY: Bureau of Land Management, Interior.

ACTION: Notice.

SUMMARY: The U.S. Fish and Wildlife Service (FWS) filed a petition/application to extend the duration of Public Land Order (PLO) No. 6997, as corrected, for an additional 20-year term. PLO No. 6997 withdrew 891,442.36 acres of Federal mineral estate from location and entry under the United States mining laws to protect the Charles M. Russell National Wildlife Refuge (CMR NWR). The surface is protected by an overlapping withdrawal. This notice gives an opportunity for the public to comment on the proposed withdrawal extension and announces the date, time, and location of a public meeting.

DATES: Comments must be received on or before September 26, 2011. Notice is hereby given that a public meeting will be held August 11, 2011.

ADDRESSES: Comments should be sent to the Montana State Director, Bureau of Land Management, 5001 Southgate Drive, Billings, Montana 59101-4669.

FOR FURTHER INFORMATION CONTACT: Danielle Kepford, Fish and Wildlife Service, 406-538-8706, Ext. 25, or Sandra Ward, Bureau of Land Management, Montana State Office, 406-896-5052.

SUPPLEMENTARY INFORMATION: The FWS has filed a petition/application to extend the duration of the withdrawal created by PLO No. 6997 (58 FR 50518 (1993)), as corrected (58 FR 58593 (1993)), for an additional 20-year term and is incorporated herein by reference. The PLO withdrew 891,442.36 acres of Federal mineral estate from location and entry under the United States mining laws to protect the CMR NWR. The withdrawal will expire September 27, 2013, unless extended.

The purpose of the proposed extension is to continue the protection of the CMR NWR and its mission to preserve, restore, and manage in a generally natural setting a portion of the nationally significant Missouri River breaks and associated ecosystems for optimum wildlife resources and provide compatible human benefits associated with its wildlife and wild lands.

The use of a right-of-way, interagency agreement, or cooperative agreement would not provide adequate protection.

There are no suitable alternative sites available.

Water will not be needed to fulfill the purpose of the requested withdrawal extension.

On or before September 26, 2011, all persons who wish to submit comments, suggestions, or objections in connection with the proposed withdrawal extension may present their views in writing to the BLM Montana State Director at the address above. Electronic mail, facsimile, or telephone comments will not be considered properly filed.

Comments, including names and street addresses of respondents, and records relating to the application will be available for public review at the BLM Montana State Office, 5001 Southgate Drive, Billings, Montana, during regular business hours.

Before including your address, phone number, e-mail address, or other personal identifying information in your comments, be advised that your entire comment—including your personal identifying information—may be made publicly available at any time. While you can ask us in your comment to withhold from public review your personal identifying information, we cannot guarantee that we will be able to do so.

Notice is hereby given that a public meeting in connection with the proposed withdrawal extension will be held on August 11, 2011 at the Yogo Inn, 211 East Main Street, Lewistown, Montana. A notice of the time and place will also be published in at least one newspaper of local jurisdiction no less than 30 days before the scheduled meeting date. Interested parties may make oral statements and may file written statements at the meeting. All statements received will be considered before any recommendation concerning the proposed extension is submitted to the Assistant Secretary for Land and Minerals Management for final action.

The application will be processed in accordance with the regulations set forth in 43 CFR 2310.4.

Authority: 43 CFR 2310.3-1.

Christina Miller,
Acting Chief, Branch of Land Resources.

[FR Doc. 2011-15959 Filed 6-24-11; 8:45 am]

BILLING CODE 4310-55-P